DEPARTMENT OF COMMERCE

National Oceanic and Atmospheric Administration

[RTID 0648-XD285]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (Council) Scientific and Statistical Committee (SSC) will hold a meeting.

DATES: The meeting will be held on Tuesday, September 12, 2023, starting at 10 a.m. and continuing through 1 p.m. on Wednesday, September 13, 2023. See SUPPLEMENTARY INFORMATION for agenda details.

ADDRESSES: This will be an in-person meeting with a virtual option. SSC members, other invited meeting participants, and members of the public will have the option to participate in person or virtually via Webex webinar. Webinar connection instructions and briefing materials will be available at: www.mafmc.org/ssc.

Meeting address: Royal Sonesta Harbor Court Baltimore, 550 Light Street, Baltimore, MD.

Council address: Mid-Atlantic Fishery Management Council, 800 N. State Street, Suite 201, Dover, DE 19901; telephone: (302) 674-2331; website: www.mafmc.org.

FOR FURTHER INFORMATION CONTACT: Christopher M. Moore, Ph.D., Executive Director, Mid-Atlantic Fishery Management Council; telephone: (302) 526-5255.

SUPPLEMENTARY INFORMATION: During this meeting, the SSC will discuss recent research that evaluates the science implications and fishery interactions associated with offshore wind development. The SSC will receive an update on the Council's development of the Recreational Measures Setting Process Framework, including anticipated model development and management strategy evaluation analysis to support the action. The SSC will review and provide feedback on the updated Scup discard report and Gear Restricted Area (GRA) analysis. The SSC will get an overview of the Northeast commercial port sampling program and an update on Atlantic Mackerel management track stock assessment and projection scenarios. The SSC will also receive updates from the SSC ecosystem work group and the SSC overfishing limit (OFL) coefficient of variation (CV) sub-group. The SSC may take up any other business as necessary.

A detailed agenda and background documents will be made available on the Council's website (www.mafmc.org) prior to the meeting.

Special Accommodations

The meeting is physically accessible to people with disabilities. Requests for sign language interpretation or other auxiliary aid should be directed to Shelley Spedden, (302) 526-5251, at least 5 days prior to the meeting date.

Authority: 16 U.S.C. 1801 et seq.

Dated: August 22, 2023.
Rey Israel Marquez,
Acting Deputy Director, Office of Sustainable Fisheries, National Marine Fisheries Service.

[FR Doc. 2023-18431 Filed 8-25-23; 8:45 am]

BILLING CODE 3510-22-P